DEPARTMENT OF ENERGY

Federal Energy Regulatory Commission

Combined Notice of Filings

Take notice that the Commission has received the following Natural Gas Pipeline Rate and Refund Report filings:

Filings Instituting Proceedings

Docket Numbers: CP16-101-000.

Applicants: Orange and Rockland Utilities, Inc.

Description: Application for Limited Jurisdiction Blanket Certificate and Request for Expedited Action of Orange and Rockland Utilities, Inc.

Filed Date: 3/10/16.

Accession Number: 20160310-5104.

Comments Due: 5 p.m. ET 4/11/16.

Docket Numbers: RP16-727-000.

Applicants: Eastern Shore Natural Gas Company.

Description: § 4(d) Rate Filing: Filling of Negotiated Rate Agreement to be effective 3/18/2016.

Filed Date: 3/17/16.

Accession Number: 20160317-5073.

Comments Due: 5 p.m. ET 3/29/16.

Docket Numbers: RP16-728-000.

Applicants: Midcontinent Express Pipeline LLC.

Description: Penalty Revenue Crediting Report of Midcontinent Express Pipeline LLC.

Filed Date: 3/17/16.

Accession Number: 20160317-5202.

Comments Due: 5 p.m. ET 3/29/16.

Docket Numbers: RP16-729-000.

Applicants: Transcontinental Gas Pipe Line Company.

Description: § 4(d) Rate Filing: GT&C Section 49—Available Firm Capacity Posting Procedure to be effective 4/18/2016.

Filed Date: 3/18/16.

Accession Number: 20160318-5129.

Comments Due: 5 p.m. ET 3/30/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 21, 2016.
Nathaniel J. Davis, Sr.,
Deputy Secretary.

[FR Doc. 2016-06806 Filed 3-24-16; 8:45 am]

BILLING CODE 6717-01-P